DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request the Office of Management and Budget (OMB) to allow the proposed information collection project: “Medical Expenditure Panel Survey—Medical Provider Component (MEPS-MPC) for 2001 and 2002.” In accordance with the Paperwork Reduction Act as amended (see in particular 44 U.S.C. 3506(c)(2)(A)), AHRQ invites the public to comment on this proposed information collection.

The proposed information collection was previously published in the Federal Register on October 3, 2001 and allowed 60 Days for public comment. No public comments were received. The purpose of this notice is to allow an additional 30 Days for public comment.

DATES: Comments on this notice must be received by January 14, 2002.

ADDRESSES: Written comments should be submitted to: Allison Eydt, Human Resources and Housing Branch, Office of Information and Regulatory Affairs, OMB: New Executive Office Building, Room 10235; Washington, DC 20503.

Comments submitted in response to this notice will be summarized and included in the request for OMB approval of the proposed information collection. All comments will become a matter of public record.

FOR FURTHER INFORMATION CONTACT: Cynthia D. McMichael, AHRQ, Reports Clearance Officer, (301) 594-3132.

SUPPLEMENTARY INFORMATION:

Proposed Project

“Medical Expenditure Panel Survey—Medical Provider Component (MEPS-MPC) for 2001 and 2002”

The MEPS-MPC is a survey of hospitals, physicians and other medical providers. The purposes of this survey is to supplement and verify the information provided by household respondents in the household component of the MEPS (MEPS-HC) about the use of medical services in the United States based on a nationally representative sample. With the permission of members of the households surveyed in the MEPS-HC, AHRQ contractor will contract the medical providers of the HC Survey respondents to determine the actual dates of service, the diagnoses, the services provided, the amount that was charged, the amount that was paid and the source of payment. Thus, the MPC is derived from or is based upon the core survey, (MEPS-HC) and will improve the quality of the core survey data.

The Medical Expenditure Panel Survey Household Component (MEPS-HC) to be conducted in 2001 through 2003, will provide annual, nationally representative estimates of health care use, expenditures, sources of payment and insurance coverage, for the U.S. civilian non-institutionalized population for 2001 and 2002 respectively. MEPS is co-sponsored by the Agency for Healthcare Research and Quality (AHRQ) and the National Center For Health Statistics (NCHS).

Data from medical providers linked to household respondents in the MEPS Household component for calendar year 2001, will be collected beginning in 2002 and continuing into the year 2003, data for calendar year 2002 will be collected beginning in 2003 and continue into the year 2004.

Data Confidentiality Provisions

MEPS data confidentiality is protected under the NCHS and AHRQ confidentiality statutes, sections 308(d) and 924(c) of the Public Service Act [42 U.S.C. 242m(d) and 42 U.S.C. 299c-3(c) respectively].

Method of Collection

The medical provider survey will be conducted predominantly by telephone, but may include self-administered mail surveys, if requested by the respondent.

The MPC for Calendar Year 2001 estimated annual hour burden is as follows:

Type of provider | Number of respondents | Average number of patients/providers | Average number of events/patient | Average burden/event (in minutes) | Total hours of burden
Hospital | 5,000 | 2.15 | 3.2 | 5 (.083 hrs.) | 2,867
Office-based Director | 23,000 | 1.15 | 3.5 | 5 | 7,715
Separately Billing Doctor | 11,200 | 1.22 | 1.3 | 5 | 1,480
Home Health | 500 | 1.0 | 5.8 | 5 | 242
Pharmacy | 9,000 | 1.75 | 10.3 | 3 | 8,111
Estimated Annual Burden Total |  |  |  |  | 20,415

MPC for Calendar Year 2002

Type of provider | Number of respondents | Average number of patients/providers | Average number of events/patient | Average burden/event (in minutes) | Total hours of burden
Hospital | 5,000 | 2.60 | 3.2 | 5 (.083 hrs.) | 3,467
Office-based Doctor | 24,000 | 1.15 | 3.5 | 5 | 8,050
Separately Billing Doctor | 13,360 | 1.22 | 1.3 | 5 | 1,766
Home Health | 600 | 1.00 | 5.8 | 5 | 290
Pharmacy | 10,700 | 1.75 | 10.3 | 3 | 9,643
Estimated Annual Burden Total |  |  |  |  | 23,216

Request for Comments

In accordance with the above cited Paperwork Reduction Act legislation, comments on this AHRQ information collection proposals are requested with regard to any of the following: (a) Whether the proposed collections of information is necessary for the proper performance of functions of the Agency, including whether the information will have practical utility; (b) the accuracy of the Agency's estimate of burden (including hours and cost) of the proposed collection of information; (c) ways to enhance the quality, utility and clarity of the information to be collected; and, (d) ways to minimize the burden of the collection of information upon the respondents, including the use of automated collection techniques or other forms of information technology.

Comments submitted in response to this notice will be summarized and included in the request for OMB approval of the proposed information collection. All comments will become a matter of public record. Copies of the proposed collection plans, data collection instruments, and specific details on the estimated burden can be obtained from the AHRQ Reports Clearance Officer (see above).

Dated: December 7, 2001.
John M. Eisenberg,
Director.

[FR Doc. 01-30851 Filed 12-13-01; 8:45 am]

BILLING CODE 4160-90-M